DEPARTMENT OF HEALTH AND HUMAN SERVICES

Food and Drug Administration

[Docket No. FDA-2012-P-1189]

Canned Tuna Deviating From Identity Standard; Amendment of Temporary Marketing Permit

AGENCY: Food and Drug Administration, HHS.

ACTION: Notice.

SUMMARY: The Food and Drug Administration (FDA or we) is amending StarKist Co.'s temporary permit to market test canned tuna. The temporary permit is amended to add one additional manufacturing location. This amendment will allow the applicant to continue to test market and collect data on consumer acceptance of the test product.

FOR FURTHER INFORMATION CONTACT: Marjan Morravej, Center for Food Safety and Applied Nutrition (HFS-820), Food and Drug Administration, 5001 Campus Dr., College Park, MD 20740, 240-402-2371.

SUPPLEMENTARY INFORMATION: In the Federal Register of June 20, 2014 (79 FR 35362), we issued a notice announcing that we had issued a temporary permit to StarKist Co., 225 North Shore Dr., Pittsburgh, PA 15212, to market test products identified as canned tuna products. The permit allowed for the test product to be manufactured at Galapesca S.A., Km. 12.5 Via A Duale, Guayaquil, Ecuador, and StarKist Samoa Co., 368 Atu'u Rd., Pago Pago, American Samoa 96799. We issued the permit to facilitate market testing of products that deviate from the requirements of the standard of identity for canned tuna in 21 CFR 161.190, which was issued under section 401 of the Federal Food, Drug, and Cosmetic Act (21 U.S.C. 341).

In the Federal Register of March 7, 2016 (81 FR 11813), we issued a notice announcing that we were extending the temporary market permit issued to StarKist Co., among other parties. The extension allows the applicants to continue to measure consumer acceptance of the products and assess the commercial feasibility of the products, in support of a petition to amend the standard of identity for canned tuna. The new expiration date of the permit will be either the effective date of a final rule amending the standard of identity for canned tuna that may result from the petition or 30 days after denial of the petition.

In the Federal Register of March 5, 2021 (86 FR 12954), we issued a notice announcing that we were amending the temporary permit issued to StarKist Co. to allow the test product to be manufactured at three additional plants: Tropical Canning (Thailand) Public Co., LTD., 1/1 M.2 T.Thungyai, Hatyai, Songkhla 90110, Thailand; ISA Value Co., Ltd., 44/4 Moo1, Petchkasem Road, Yaicha, Sampran, Nakornpathom 73110, Thailand; and Tri-Marine (Solomon Islands), Soltuna Ltd., 1 Tuna Dr., Noro, Western Province, Solomon Islands, and to increase the amount of test product to 213,500,000 pounds (96,841,971 kilograms).

In the Federal Register of December 28, 2021 (86 FR 73789), we issued a notice announcing that we were amending the temporary permit issued to StarKist Co. to increase the amount of test product to be market tested to 217,900,000 pounds (98,837,777 kilograms) in retail cans of various sizes and to allow the test product to be manufactured at one additional plant: Société De Conserverie en Afrique (SCA S.A.), Nouveau Quai de Peche-Mole 10-BP 782, Dakar, Senegal.

Under our regulations at 21 CFR 130.17(f), we are amending the temporary permit issued to StarKist Co. to allow the test product to be manufactured at one additional plant: RD Foods Americas, 48 S Franklin Turnpike, Suite 204, Ramsey, NJ 07446 USA. All other conditions and terms of this permit remain the same.

Dated: December 15, 2022.
Lauren K. Roth,
Associate Commissioner for Policy.

[FR Doc. 2022-27710 Filed 12-20-22; 8:45 am]

BILLING CODE 4164-01-P